DEPARTMENT OF THE INTERIOR

Bureau of Indian Affairs

Tribal Energy Resource Agreement Regulations Public Information Meeting

AGENCY: Bureau of Indian Affairs, Interior.

ACTION: Notice of Meeting.

SUMMARY: This notice advises the public that the Office of Indian Energy and Economic Development (IEED) will hold an all-day public information session on April 29, 2008, concerning the final regulations authorizing Tribal Energy Resource Agreements (TERA). These final regulations provide the process under which a tribe may apply for, and the Secretary of the Interior may grant, authority for an Indian tribe to review and approve leases and business agreements and grant rights-of-way for specific energy development activities on tribal lands through an approved TERA. The regulations also cover processes for implementation of TERAs, including periodic review and evaluation of a tribe's activities under a TERA, enforcement of TERA provisions, and administrative appeals. The regulations also include a process for a tribe to voluntarily rescind a TERA.

DATES: The public information meeting will begin at 9 a.m. on April 29, 2008.

ADDRESSES: The meeting will be held at the Colorado Convention Center, 700 14th Street, Denver, Colorado.

FOR FURTHER INFORMATION CONTACT: Darryl Francois, Office of Indian Energy and Economic Development, Room 20-South Interior Building, 1951 Constitution Avenue, NW., Washington, DC 20245, Telephone (202) 219-0740 or Fax (202) 208-4564.

SUPPLEMENTARY INFORMATION: Title V of the Energy Policy Act of 2005, Public Law 109-58, requires the Department of the Interior to promulgate regulations that implement new provisions in 25 U.S.C. 3504 concerning Tribal Energy Resource Agreements (TERAs). The intent of these agreements is to promote tribal oversight and management of energy and mineral resource development on tribal lands and further the goal of Indian self-determination.

The Department published a final rule in the Federal Register titled Tribal Energy Resource Agreements under the Indian Tribal Energy Development and Self Determination Act on March 10, 2008 (73 FR 12808). The rule, which can be found in the Code of Federal Regulations at 25 CFR Part 224, fully implements the provisions of 25 U.S.C. 3504.

IEED staff will be on hand at the meeting to present an overview of the regulations and to provide information on how tribes can use the processes contained in the regulations in their energy development efforts. At the meeting, IEED staff will discuss topics covering application and agreement requirements, how to define the scope of a TERA, the process for determination of tribal capacity, the type and range of internal tribal processes that must be developed, appeal processes, and periodic review parameters.

Dated: April 2, 2008.
Carl J. Artman,
Assistant Secretary—Indian Affairs.

[FR Doc. E8-7305 Filed 4-7-08; 8:45 am]

BILLING CODE 4310-4M-P